SMALL BUSINESS ADMINISTRATION

[Disaster Declaration #16148; ALASKA Disaster Number AK-00045 Declaration of Economic Injury]

Administrative Declaration of an Economic Injury Disaster for the State of Alaska

AGENCY: U.S. Small Business Administration.

ACTION: Amendment 1.

SUMMARY: This is an amendment of the Economic Injury Disaster Loan (EIDL) declaration for the State of Alaska, dated 10/08/2019.

Incident: Swan Lake Fire.

Incident Period: 06/05/2019 through 10/02/2019.

DATES: Issued on 11/19/2019.

Economic Injury (EIDL) Loan Application Deadline Date: 07/08/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the Administrator's EIDL declaration for the State of Alaska, dated 10/08/2019, is hereby amended to establish the incident period for this disaster as beginning 06/05/2019 and continuing through 10/02/2019.

All other information in the original declaration remains unchanged.

(Catalog of Federal Domestic Assistance Number 59008)

Christopher Pilkerton,
Acting Administrator.

[FR Doc. 2019-25610 Filed 11-25-19; 8:45 am]

BILLING CODE 8026-03-P